DEPARTMENT OF HOMELAND SECURITY

Federal Emergency Management Agency

[Docket ID FEMA-2018-0002; Internal Agency Docket No. FEMA-B-1849]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before December 26, 2018.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-1849, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

David I. Maurstad,
Deputy Associate Administrator for Insurance and Mitigation, Department of Homeland Security, Federal Emergency Management Agency.

Community | Community map repository address
New Castle County, Delaware and Incorporated Areas
Project: 11-03-2202S Preliminary Date: May 18, 2018
City of Newark | Planning and Development Department, 220 South Main Street, Newark, DE 19711.
City of Wilmington | Department of Licenses and Inspections, 800 North French Street, Wilmington, DE 19801.
Unincorporated Areas of New Castle County | New Castle Land Use Department, 87 Reads Way, New Castle, DE 19720.
Brevard County, Florida and Incorporated Areas
Project: 12-04-3653S Preliminary Date: August 24, 2017
Cape Canaveral Port Authority | Port Authority Maritime Center, 445 Challenger Road, Suite 203A, Cape Canaveral, FL 32920.
City of Cape Canaveral | Community Development Department, 100 Polk Avenue, Cape Canaveral, FL 32920.
City of Cocoa | Building and Permitting Division, 65 Stone Street, Cocoa, FL 32922.
City of Cocoa Beach | City Hall, 2 South Orlando Avenue, Cocoa Beach, FL 32931.
City of Indian Harbour Beach | City Hall, 2055 South Patrick Drive, Indian Harbour Beach, FL 32937.
City of Melbourne | City Hall, 900 East Strawbridge Avenue, Melbourne, FL 32901.
City of Palm Bay | City Hall, 120 Malabar Road Southeast, Palm Bay, FL 32907.
City of Rockledge | Building Division, 1600 Huntington Lane, Rockledge, FL 32955.
City of Satellite Beach | Building and Zoning Department, 565 Cassia Boulevard, Satellite Beach, FL 32937.
City of Titusville | City Hall, 555 South Washington Avenue, Titusville, FL 32796.
Town of Grant-Valkaria | Town Hall, 1449 Valkaria Road, Grant-Valkaria, FL 32950.
Town of Indialantic | Town Hall, 216 5th Avenue, Indialantic, FL 32903.
Town of Malabar | Town Hall, 2725 Malabar Road, Malabar, FL 32950.
Town of Melbourne Beach | Town Hall, 507 Ocean Avenue, Melbourne Beach, FL 32951.
Town of Palm Shores | Clerk's Office, 5030 Paul Hurtt Lane, Palm Shores, FL 32940.
Unincorporated Areas of Brevard County | Brevard County Government Center, 2725 Judge Fran Jamieson Way, Building A, Room A-204, Viera, FL 32940.
Glades County, Florida and Incorporated Areas
Project: 17-04-3875S Preliminary Date: February 28, 2018
City of Moore Haven | City Hall, 299 Riverside Drive, Moore Haven, FL 33471.
Unincorporated Areas of Glades County | Glades County Development Department, 198 6th Street, Moore Haven, FL 33471.
Indian River County, Florida and Incorporated Areas
Project: 12-04-3653S Preliminary Date: September 29, 2017
City of Fellsmere | City Hall, 22 South Orange Street, Fellsmere, FL 32948.
City of Sebastian | City Hall, 1225 Main Street, Sebastian, FL 32958.
City of Vero Beach | Planning and Development Department, 1053 20th Place, Vero Beach, FL 32960.
Town of Indian River Shores | Town Hall, 6001 North Highway A1A, Indian River Shores, FL 32963.
Town of Orchid | Orchid Town Hall, 7707-1 U.S. Highway 1, Suite 1, Vero Beach, FL 32967.
Unincorporated Areas of Indian River County | Indian River County Planning Department, County Administration Building, 1801 27th Street, Building A, Vero Beach, FL 32960.
Martin County, Florida and Incorporated Areas
Project: 12-04-3653S Preliminary Date: July 12, 2017 and March 30, 2018
City of Stuart | Development Department, 121 Southwest Flagler Avenue, Stuart, FL 34994.
Town of Jupiter Island | Jupiter Island Town Hall, 2 Bridge Road, Hobe Sound, FL 33455.
Town of Ocean Breeze | Ocean Breeze Town Hall, 1508 Northeast Jensen Beach Boulevard, Jensen Beach, FL 34957.
Town of Sewall's Point | Town Hall, 1 South Sewall's Point Road, Sewall's Point, FL 34996.
Unincorporated Areas of Martin County | Martin County Administrative Center, 2401 Southeast Monterey Road, Stuart, FL 34996.
St. Lucie County, Florida and Incorporated Areas
Project: 12-04-3653S Preliminary Date: June 22, 2017
City of Fort Pierce | City Hall, 100 North U.S. Highway 1, Fort Pierce, FL 34950.
City of Port St. Lucie | Planning and Zoning Department, 121 Southwest Port St. Lucie Boulevard, Building B, Port St. Lucie, FL 34984.
Town of St. Lucie Village | St. Lucie Village Town Hall, 2841 North Old Dixie Highway, Fort Pierce, FL 34946.
Unincorporated Areas of St. Lucie County | St. Lucie County Planning and Development Department, 2300 Virginia Avenue, Fort Pierce, FL 34982.
Hart County, Georgia and Incorporated Areas
Project: 17-04-4564S Preliminary Date: March 14, 2018
City of Hartwell | City Hall, 456 East Howell Street, Hartwell, GA 30643.
Unincorporated Areas of Hart County | Hart County Government Office, 800 Chandler Street, Hartwell, GA 30643.

[FR Doc. 2018-21010 Filed 9-26-18; 8:45 am]

BILLING CODE 9110-12-P